ENVIRONMENTAL PROTECTION AGENCY

[FRL OP-OFA-188]

Environmental Impact Statements; Notice of Availability

Responsible Agency: Office of Federal Activities, General Information 202-564-5632 or https://www.epa.gov/nepa.

Weekly receipt of Environmental Impact Statements (EIS)

Filed July 14, 2025 10 a.m. EST Through July 21, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250097, Draft, USFS, WA, Planning and Management of Domestic Sheep and Goat Grazing within the Range of Bighorn Sheep, Comment Period Ends: 10/24/2025, Contact: David Topolewski 509-664-9376.

EIS No. 20250098, Draft, FTA, NY, Buffalo-Amherst-Tonawanda Corridor Transit Expansion, Comment Period Ends: 09/08/2025, Contact: James A. Goveia 212-668-2325.

EIS No. 20250099, Final, MDA, GU, Enhanced Integrated Air and Missile Defense System on Guam, Review Period Ends: 08/25/2025, Contact: Mark Wright 571-231-8212.

EIS No. 20250100, Final, DOE, KS, Phase 1 Grain Belt Express Transmission Project, Review Period Ends: 08/25/2025, Contact: Todd Stribley 301-525-5944.

Dated: July 21, 2025.
Nancy Abrams,
Associate Director, Office of Federal Activities.

[FR Doc. 2025-14067 Filed 7-24-25; 8:45 am]

BILLING CODE 6560-50-P